FEDERAL ELECTION COMMISSION

[Notice 2001-7]

Filing Dates for the Florida Special Election in the 1st Congressional District

AGENCY: Federal Election Commission.

ACTION: Notice of filing dates for special election.

SUMMARY: Florida has scheduled special elections to fill the U.S. House of Representatives seat in the First Congressional District held by Congressman Joe Scarborough. There are three possible special elections, but only two may be necessary.

• Primary Election: July 24, 2001.

• Possible Runoff Election: September 4, 2001. In the event that one candidate does not achieve more than 50% of the vote in his/her party's Special Primary Election, the top two vote-getters will participate in a Special Runoff Election.

• General Election: October 16, 2001.

FOR FURTHER INFORMATION CONTACT: Mr. Gregory J. Scott, Information Division, 999 E Street, NW., Washington, DC 20463; Telephone: (202) 694-1100; Toll Free (800) 424-9530.

SUPPLEMENTARY INFORMATION:

Principal Campaign Committees

Special Primary Only

All principal campaign committees of candidates only participating in the Florida Special Primary shall file a consolidated 12-day Pre-Primary & Mid-Year Report on July 12, 2001. (See chart below for the closing date for the report.)

Special Primary and General Without Runoff

If only two elections are held, all principal campaign committees of candidates participating in the Florida Special Primary and Special General Elections shall file a consolidated 12-day Pre-Primary & Mid-Year Report on July 12, 2001; a Pre-General Report on October 4, 2001; and a Post-General Report on November 15, 2001. (See chart below for the closing date for each report.)

Special Primary and Runoff Elections

All principal campaign committees of candidates only participating in the Florida Special Primary and Special Runoff Elections shall file a consolidated 12-day Pre-Primary & Mid-Year Report on July 12, 2001; and a Pre-Runoff Report on August 23, 2001. (See chart below for the closing date for each report.)

Special Primary, Runoff and General Elections

All principal campaign committees of candidates participating in the Florida Special Primary, Special Runoff and Special General Elections shall file a consolidated 12-day Pre-Primary & Mid-Year Report on July 12, 2001; a Pre-Runoff Report on August 23, 2001; a Pre-General Report on October 4, 2001; and a Post-General Report on November 15, 2001. (See chart below for the closing date for each report.)

Unauthorized Committees (PACs and Party Committees)

Political committees that file on a semiannual basis during 2001 are subject to special election reporting if they make previously undisclosed contributions or expenditures in connection with the Florida Special Primary, Runoff or General Elections by the close of books for the applicable report(s). Consult the chart below that corresponds to the committee's situation for close of books and filing date information.

Committees filing monthly that support candidates in the Florida Special Primary, Special Runoff or Special General Elections should continue to file according to the non-election year monthly reporting schedule.

Calendar of Reporting Dates for Florida Special Elections
Report | Close of books ¹ | Reg./cert. mailing date ² | Filing date
Committees Involved in Only the Special Primary (07/24/01) Must File
Pre-Primary & Mid-Year ³ | 07/04/01 | 07/09/01 | 07/12/01
Year-End | 12/31/01 | 01/31/02 | 01/31/02
If Only Two Elections Are Held, Committees Involved in the Special Primary (07/24/01) and the Special General (10/16/01) Must File
Pre-Primary & Mid-Year ³ | 07/04/01 | 07/09/01 | 07/12/01
Pre-General | 09/26/01 | 10/01/01 | 10/04/01
Post-General | 11/05/01 | 11/15/01 | 11/15/01
Year-End | 12/31/01 | 01/31/02 | 01/31/02
If Three Elections are Held, Committees Involved In Only The Special Primary (07/24/01) and Special Runoff (09/04/01) Must File
Pre-Primary & Mid-Year ³ | 07/04/01 | 07/09/01 | 07/12/01
Pre-Runoff | 08/15/01 | 08/20/01 | 08/23/01
Year-End | 12/31/01 | 01/31/02 | 01/31/02
Committees Involved in the Special Primary (07/24/01), Special Runoff (09/04/01) and the Special General (10/16/01) Must File
Pre-Primary & Mid-Year ³ | 07/04/01 | 07/09/01 | 07/12/01
Pre-Runoff | 08/15/01 | 08/20/01 | 08/23/01
Pre-General | 09/26/01 | 10/01/01 | 10/04/01
Post-General | 11/05/01 | 11/15/01 | 11/15/01
Year-End | 12/31/01 | 01/31/02 | 01/31/02
Committees Involved in Only the Special Runoff (09/04/01) Must File
Pre-Runoff | 08/15/01 | 08/20/01 | 08/23/01
Year-End | 12/31/01 | 01/31/02 | 01/31/02
Committees Involved in Only the Special General (10/16/01) Must File
Pre-General | 09/26/01 | 10/01/01 | 10/04/01
Post-General | 11/05/01 | 11/15/01 | 11/15/01
Year-End | 12/31/01 | 01/31/02 | 01/31/02
¹ The period begins with the close of books of the last report filed by the committee. If the committee has filed no previous reports, the period begins with the date of the committee's first activity.
² Reports sent registered or certified mail must be postmarked by the mailing date; otherwise, they must be received by the filing date.
³ Committees should file a consolidated Pre-Primary & Mid-Year Report by the filing date of the Pre-Primary Report.

Dated: June 5, 2001.
Karl J. Sandstrom,
Commissioner, Federal Election Commission.

[FR Doc. 01-14528 Filed 6-8-01; 8:45 am]

BILLING CODE 6715-01-P